NATIONAL ARCHIVES AND RECORDS ADMINISTRATION

[NARA-2015-043]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize agencies to preserve records of continuing value in the National Archives of the United States and to destroy, after a specified period, records lacking administrative, legal, research, or other value. NARA publishes notice for records schedules in which agencies propose to destroy records not previously authorized for disposal or reduce the retention period of records already authorized for disposal. NARA invites public comments on such records schedules, as required by 44 U.S.C. 3303a(a).

DATES: NARA must receive requests for copies in writing by June 29, 2015. Once NARA completes appraisal of the records, we will send you a copy of the schedule you requested. We usually prepare appraisal memoranda that contain additional information concerning the records covered by a proposed schedule. You may also request these. If you do, we will also provide them once we have completed the appraisal. You have 30 days after we send these requested documents in which to submit comments.

ADDRESSES: You may request a copy of any records schedule identified in this notice by contacting Records Management Services (ACNR) using one of the following means:

Mail: NARA (ACNR); 8601 Adelphi Road; College Park, MD 20740-6001.

Email: request.schedule@nara.gov.

Fax: 301-837-3698.

You must cite the control number, which appears in parentheses after the name of the agency which submitted the schedule, and a mailing address. If you would like an appraisal report, please include that in your request.

FOR FURTHER INFORMATION CONTACT: Margaret Hawkins, Director, by mail at Records Management Services (ACNR); National Archives and Records Administration; 8601 Adelphi Road; College Park, MD 20740-6001, by phone at 301-837-1799, or by email at request.schedule@nara.gov.

SUPPLEMENTARY INFORMATION: Each year, Federal agencies create billions of records on paper, film, magnetic tape, and other media. To control this accumulation, agency records managers prepare schedules proposing retention periods for records and submit these schedules for NARA's approval. These schedules provide for timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it has created or maintains the records. Items included in schedules submitted to NARA on or after December 17, 2007, are media neutral unless the item is limited to a specific medium. (See 36 CFR 1225.12(e).)

No agencies may destroy Federal records without the approval of the Archivist of the United States. The Archivist grants this approval only after a thorough consideration of the records' administrative use by the agency of origin, the rights of the Government and of private people directly affected by the Government's activities, and whether or not the records have historical or other value.

In addition to identifying the Federal agencies and any subdivisions requesting disposition authority, this notice lists the organizational unit(s) accumulating the records or that the schedule has agency-wide applicability (in the case of schedules that cover records that may be accumulated throughout an agency), provides the control number assigned to each schedule, the total number of schedule items, and the number of temporary items (the records proposed for destruction), and includes a brief description of the temporary records. The records schedule itself contains a full description of the records at the file unit level as well as their disposition. If NARA staff has prepared an appraisal memorandum for the schedule, it too includes information about the records. You may request additional information about the disposition process at the addresses above.

Schedules Pending:

1. Department of the Army, Agency-wide (DAA-AU-2015-0013, 1 item, 1 temporary item). Master files of an electronic information system used to track soldier career development training.

2. Department of the Army, Agency-wide (DAA-AU-2015-0023, 1 item, 1 temporary item). Master files of an electronic information system that contains soldier assignment data.

3. Department of Defense, Office of the Secretary of Defense (DAA-0330-2015-0005, 3 items, 3 temporary items). Records relating to cybersecurity, including assessments, incident response and master files of an electronic information system containing incident reports.

4. Department of Defense, Office of the Secretary of Defense (DAA-0330-2015-0006, 2 items, 2 temporary items). Records relating to sexual assault case files including victim reporting preference statements and forensic examination reports.

5. Department of Defense, Defense Threat Reduction Agency (DAA-0374-2014-0003, 1 item, 1 temporary item). Audit records including findings and recommendations, progress reports and related correspondence.

6. Department of Defense, Defense Threat Reduction Agency (DAA-0374-2014-0006, 1 item, 1 temporary item). Agency-wide administrative policy letters.

7. Department of Defense, Defense Threat Reduction Agency (DAA-0374-2014-0029, 1 item, 1 temporary item). Continuity of operations plans and planning records.

8. Department of Homeland Security, Immigration and Customs Enforcement (DAA-0567-2015-0002, 2 items, 2 temporary items). Master files of an electronic information system maintaining detainee health records.

9. Department of State, Bureau of Diplomatic Security (DAA-0059-2014-0020, 5 items, 5 temporary items). Records of the Office of Domestic Facilities Protection used to manage operational security and security support programs.

10. Court Services and Offenders Supervision Agency for the District of Columbia, Pretrial Services Agency (DAA-0562-2013-0018, 16 items, 16 temporary items). Drug testing records related to defendant and offender results, sample handling and testing, and instrument calibration and maintenance.

11. Environmental Protection Agency, Agency-wide (DAA-0412-2013-0018, 5 items, 4 temporary items). Permit records, including administrative records maintained separately from the permit files; routine permits; dredging and fill permits; and financial and state assurance documents. Proposed for permanent retention are historically significant permits.

12. Peace Corps, Director's Office (DAA-0490-2013-0003, 2 items, 2 temporary items). Records of the Office of Victim Advocacy related to support services for those who have been the victim of a crime.

Dated: May 19, 2015.
Paul M. Wester, Jr.,
Chief Records Officer for the U.S. Government.

[FR Doc. 2015-12887 Filed 5-27-15; 8:45 am]

BILLING CODE 7515-01-P